DEPARTMENT OF TRANSPORTATION

Maritime Administration

[USCG-2004-16860]

Gulf Landing LLC Liquefied Natural Gas Deepwater Port License Surrender

AGENCY: Maritime Administration, DOT.

ACTION: License Surrender Announcement; Notice.

SUMMARY: The Maritime Administration (MARAD) announces the cancellation of all actions related to the license to own, construct and operate a deepwater port issued to Gulf Landing LLC on April 29, 2005. Pursuant to Section 1503(h) of the Deepwater Port Act of 1974, as amended, a deepwater port license may remain in effect until such time as it is either suspended or revoked by the Secretary of Transportation or surrendered by the licensee. The action is taken in response to the applicant's decision to surrender its Deepwater Port License.

DATES: The date of surrender and cancellation of all actions related to this license was effective April 30, 2009.

ADDRESSES: The Docket Management Facility maintains the public docket for this project. The docket may be viewed electronically at http://www.regulations.gov under docket number USCG-2004-16860, or in person at the U.S. Department of Transportation, Docket Operations, M-30, West Building Ground Floor, Room W12-140, 1200 New Jersey Avenue, SE., Washington, DC 20590.

FOR FURTHER INFORMATION CONTACT: If you have questions about the Gulf Landing LLC Deepwater Port project, contact Ms. Yvette Fields, Office of Deepwater Ports and Offshore Activities at (202) 366-4839 or Yvette.Fields@dot.gov.

SUPPLEMENTARY INFORMATION: On April 30, 2009, the Maritime Administration received notification from the licensee, Gulf Landing LLC, of the surrender of its license to own, construct and operate a deepwater port for a liquefied natural gas deepwater port (with associated anchorages and pipeline facilities) located 38 miles south of Cameron, Louisiana in South Cameron Block 213. Consequently, the Maritime Administration is terminating all activities relating to the licensure, construction and operation of the proposed Gulf Landing LNG deepwater port. Further information pertaining to this application may be found in the public docket (see ADDRESSES).

Authority: 49 CFR 1.66.

By order of the Maritime Administrator.
Dated: June 23, 2009.
Christine Gurland,
Acting Secretary, Maritime Administration.

[FR Doc. E9-15527 Filed 6-30-09; 8:45 am]

BILLING CODE 4910-81-P